DEPARTMENT OF COMMERCE

National Institute of Standards and Technology

National Fire Codes: Request for Comments on NFPA Technical Committee Reports

AGENCY: National Institute of Standards and Technology, Commerce.

ACTION: Notice.

SUMMARY: Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that take approximately two years to complete. Each Revision Cycle proceeds according to a published schedule that includes final dates for all major events in the process. The process contains five basic steps that are followed both for developing new documents as well as revising existing documents. These steps are: Calling for Proposals; Publishing the Proposals in the Report on Proposals (ROP); Calling for Comments on the Committee's disposition of the Proposals and these Comments are published in the Report on Comments (ROC); having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline of April 4, 2008. Certified motions will be posted by May 4, 2008. Documents that receive notice of proper Amending Motions (Certified Amending Motions) will be presented for action at the Annual 2008 Association Technical Meeting. Documents that receive no motions will be forwarded directly to the Standards Council for action on issuance at its July 24, 2008 meeting.

For more information on these new rules and for up-to-date information on schedules and deadlines for processing NFPA Documents, check the NFPA Web site at http://www.nfpa.org or contact NFPA Codes and Standards Administration.

The purpose of this notice is to request comments on the technical reports that will be presented at NFPA's 2008 Annual Revision Cycle. The publication of this notice by the National Institute of Standards and Technology (NIST) on behalf of NFPA is being undertaken as a public service; NIST does not necessarily endorse, approve, or recommend any of the standards referenced in the notice.

DATES: Forty-seven reports are published in the 2008 Annual Cycle Report on Proposals and will be available on June 22, 2007. Comments received on or before August 31, 2007, will be considered by the respective NFPA Committees before final action is taken on the proposals.

ADDRESSES: The 2008 Annual Revision Cycle Report on Proposals is available and downloadable from NFPA's Web site http://www/nfpa.org or by requesting a copy from the NFPA, Fulfillment Center, 11 Tracy Drive, Avon, Massachusetts 02322. Comments on the report should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before August 31, 2007, for the 2008 Annual Cycle Report on Proposals will be considered by the NFPA before final action is taken on the proposals.

Copies of all written comments received and the disposition of those comments by the NFPA committees will be published as the 2008 Annual Cycle Report on Comments by February 23, 2008. A copy of the Report on Comments will be sent automatically to each commenter. Reports of the Technical Committees on documents that do not receive a Notice of Intent to Make a Motion will automatically be forwarded to the Standards Council for action on issuance. Action on the reports of the Technical Committees on documents that do receive a Notice of Intent to Make a Motion will be taken at the Annual Meeting, June 2-6, 2008, in Las Vegas, Nevada, by NFPA members.

2008 Annual Meeting Report on Proposals
[P = Partial revision; W = Withdrawal; R = Reconfirmation; N = New; C = Complete Revision]
NFPA 1 | Uniform Fire Code™ | P
NFPA 12A | Standard on Halon 1301 Fire Extinguishing Systems | P
NFPA 42 | Code for the Storage of Pyroxylin Plastic | W
NFPA 45 | Standard on Fire Protection for Laboratories Using Chemicals | P
NFPA 51B | Standard for Fire Prevention During Welding, Cutting, and Other Hot Work | P
NFPA 54 | National Fuel Gas Code | P
NFPA 59A | Standard for the Production, Storage, and Handling of Liquefied Natural Gas (LNG) | P
NFPA 70E | Standard for Electrical Safety in the Workplace | P
NFPA 90A | Standard for the Installation of Air-Conditioning and Ventilating Systems | P
NFPA 90B | Standard for the Installation of Warm Air Heating and Air-Conditioning Systems | P
NFPA 92A | Standard for Smoke-Control Systems Utilizing Barriers and Pressure Differences | P
NFPA 92B | Standard for Smoke Management Systems in Malls, Atria, and Large Spaces | P
NFPA 101 | Life Safety Code® | P
NFPA 220 | Standard on Types of Building Construction | P
NFPA 221 | Standard for High Challenge Fire Walls and Fire Barrier Walls | P
NFPA 256 | Standard Methods of Fire Tests of Roof Coverings | P
NFPA 260 | Standard Methods of Tests and Classification System for Cigarette Ignition Resistance of Components of Upholstered Furniture | P
NFPA 261 | Standard Method of Test for Determining Resistance of Mock-Up Upholstered Furniture Material Assemblies to Ignition by Smoldering Cigarettes | P
NFPA 274 | Standard Test Method to Evaluate Fire Performance Characteristics of Pipe Insulation | P
NFPA 275 | Standard Method of Tests for the Evaluation of Thermal Barriers Used Over Foam Plastic | N
NFPA 289 | Standard Method of Fire Test for Room Fire Growth Contribution of Individual Fuel Packages | N
NFPA 290 | Standard for Fire Testing of Passive Protection Materials for Use on LP-Gas Containers | P
NFPA 306 | Standard for the Control of Gas Hazards on Vessels | P
NFPA 318 | Standard for the Protection of Semiconductor Fabrication Facilities | P
NFPA 400 | Hazardous Chemical Code | N
NFPA 403 | Standard for Aircraft Rescue and Fire-Fighting Services at Airports | P
NFPA 412 | Standard for Evaluating Aircraft Rescue and Fire-Fighting Foam Equipment | P
NFPA 430 | Code for the Storage of Liquid and Solid Oxidizers | W
NFPA 432 | Code for the Storage of Organic Peroxide Formulations | W
NFPA 434 | Code for the Storage of Pesticides | W
NFPA 450 | Guide for Emergency Medical Services and Systems | P
NFPA 484 | Standard for Combustible Metals | P
NFPA 490 | Code for the Storage of Ammonium Nitrate | P
NFPA 555 | Guide on Methods for Evaluating Potential for Room Flashover | P
NFPA 610 | Guide for Emergency and Safety Operations at Motorsports Venues | C
NFPA 703 | Standard for Fire-Retardant Treated Wood and Fire-Retardant Coatings for Building Materials | P
NFPA 705 | Recommended Practice for a Field Flame Test for Textiles and Films | P
NFPA 720 | Standard for the Installation of Carbon Monoxide (CO) Warning Equipment in Dwelling Units | C
NFPA 1002 | Standard for Fire Apparatus Driver/Operator Professional Qualifications | P
NFPA 1021 | Standard for Fire Officer Professional Qualifications | P
NFPA 1026 | Standard for Incident Management Personnel Professional Qualifications | N
NFPA 1031 | Standard for Professional Qualifications for Fire Inspector and Plan Examiner | C
NFPA 1033 | Standard for Professional Qualifications for Fire Investigator | P
NFPA 1143 | Standard for Wildland Fire Management | P
NFPA 1620 | Recommended Practice for Pre-Incident Planning | C
NFPA 1901 | Standard for Automotive Fire Apparatus | C
NFPA 5000 | Building Construction and Safety Code® | P

Dated: April 5, 2007.
William Jeffrey,
Director.

[FR Doc. E7-7076 Filed 4-12-07; 8:45 am]

BILLING CODE 3510-13-P